DEPARTMENT OF LABOR

Mine Safety and Health Administration

Petitions for Modification

The following parties have filed petitions to modify the application of existing safety standards under section 101(c) of the Federal Mine Safety and Health Act of 1977.

1. Kingwood Mining Company, LLC

[Docket No. M-2003-091-C]

Kingwood Mining Company, LLC, Route 1, Box 294C, Newburg, West Virginia 26410 has filed a petition to modify the application of 30 CFR 75.350 (Air courses and belt haulage entries) to its Whitetail K-Mine (MSHA I.D. No. 46-08751) located in Preston County, West Virginia. The petitioner requests that paragraph 1(e) of its previously approved petition for modification, docket number M-2001-049-C be amended to read as follows: Sensors shall be installed not more than 100 feet downwind of all electrical installations in the belt or neutral entry(s) and any equipment or location in the conveyor belt entry where a potential fire source exists. Where an electrical installation is part of a belt drive installation, then only one sensor per statement 1(d) above is required at the belt drive location. The petitioner asserts that the proposed alternative method would provide at least the same measure of protection as the existing standard.

2. Genwal Resources, Inc.

[Docket No. M-2003-092-C]

Genwal Resources, Inc., PO Box 1077, Price, Utah 84501 has filed a petition to modify the application of 30 CFR 75.352 (Return air courses) to its South Crandall Canyon Mine (MSHA I.D. No. 42-02356) located in Emery County, Utah. The petitioner requests a modification of the existing standard to allow the use of the belt entry as a return air course during longwall development. The petitioner asserts that the proposed alternative method would provide at least the same measure of protection as the existing standard.

3. The Banner Company

[Docket No. M-2003-094-C]

The Banner Company, 2700 Lee Highway, Bristol, Virginia 24609 has filed a petition to modify the application of 30 CFR 75.364(b)(2) and (4) (Weekly examination) to its Honey Branch Mine (MSHA I.D. No. 44-06599) located in Wise County, Virginia. The petitioner states that due to deteriorating roof and rib conditions in a portion of the main return entry extending from the surface to a point approximately 150 feet inby, combined with a roof fall in this area, which extends from the outby #1E seal location to the main return travelway, traveling the area to perform weekly examinations would be unsafe. The petitioner proposes to establish evaluation points and have a certified person monitor the affected area to determine the quantity and quality of air at each monitoring station. The petitioner has listed specific terms and conditions in this petition that would be followed when its proposed alternative method is implemented. The petitioner asserts that the proposed alternative method would provide at least the same measure of protection as the existing standard.

4. Dickenson-Russell Coal Company, LLC

[Docket No. M-2003-095-C]

Dickenson-Russell Coal Company, LLC, P.O. Box 2345, Abingdon, Virginia 24212 has filed a petition to modify the application of 30 CFR 75.1710-1(a) (Canopies or cabs; self-propelled diesel-powered and electric face equipment; installation requirements) to its Laurel Mountain Mine (MSHA I.D. No. 44-06444) located in Russell County, Virginia. The petitioner proposes to operate self-propelled electric face equipment without canopies or cabs in mining heights less than 50 inches. The petitioner asserts that application of the existing standard would result in a diminution of safety to the miners.

5. Sierra Minerals Corporation

[Docket No. M-2003-005-M]

Sierra Minerals Corporation, 6164 S. Newport Street, Suite 2000, Centennial, Colorado 80111 has filed a petition to modify the application of 30 CFR 57.15031 (Location of self-rescue devices) to its Yule Quarry Operation (MSHA I.D. No. 05-04438) located in Gunnison County, Colorado. The petitioner requests a modification of the existing standard to eliminate the use of self-rescue devices for persons underground during non-operating hours. The petitioner asserts that application of the existing standard would result in a diminution of safety to visitors at the mine and that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2350, Arlington, Virginia 22209. All comments must be postmarked or received in that office on or before January 28, 2004. Copies of these petitions are available for inspection at that address.

Dated at Arlington, Virginia, this 19th day of December, 2003.
Marvin W. Nichols, Jr.,
Director, Office of Standards, Regulations, and Variances.

[FR Doc. 03-31797 Filed 12-24-03; 8:45 am]

BILLING CODE 4510-43-P